DEPARTMENT OF HOMELAND SECURITY

Coast Guard

33 CFR Part 165

[Docket No. USCG-2016-0745]

Safety Zone; North Atlantic Ocean, Virginia Beach, VA

AGENCY: Coast Guard, DHS.

ACTION: Notice of enforcement of regulation.

SUMMARY: The Coast Guard will enforce safety zone regulations for a fireworks display taking place offshore the Virginia Beach oceanfront in the vicinity of the 20th Street, Virginia Beach, VA, on October 1, 2016. This action is necessary to ensure safety of life on navigable waters during this event. Our regulation for Recurring Marine Events within the Fifth Coast Guard District identifies the regulated area for this fireworks display event. During the enforcement period, no person or vessel may enter, transit through, anchor in, or remain within the regulated area without approval from the Captain of the Port Hampton Roads or a designated representative.

DATES: From 8:30 p.m. through 10 p.m. on October 1, 2016, the regulations in 33 CFR 165.506 will be enforced for the safety zone regulated area listed in row (c) 9 of the table to § 165.506.

FOR FURTHER INFORMATION CONTACT: If you have questions about this notice of enforcement, call or email ENS Chandra Saunders, U.S. Coast Guard Sector Hampton Roads (WWM); telephone 757-668-5582, email Chandra.M.Saunders@uscg.mil.

SUPPLEMENTARY INFORMATION: The Coast Guard will enforce the safety zone regulations in 33 CFR 165.506 from 8:30 p.m. until 10 p.m. on October 1, 2016, for the safety zone regulated area listed in row (c) 9 of the table to § 165.506. This enforcement is related to a fireworks display that is part of the Virginia Beach Neptune Festival, on the North Atlantic Ocean, Virginia Beach, VA. This action is being taken to provide for the safety of life on navigable waterways during this event.

Our regulation for Recurring Marine Events within the Fifth Coast Guard District, § 165.506, specifies the location of the regulated area for this safety zone within a 1000 yard radius of the center located near the shoreline at approximate position latitude 36°51′12″ N., longitude 075°58′06″ W., located off Virginia Beach, VA between 17th and 31st streets. As specified in § 165.506 (d), during the enforcement period, no vessel may not enter, remain in, or transit through the safety zone without approval from the Captain of the Hampton Roads (COTP) or a COTP designated representative. The Coast Guard may be assisted by other Federal, state or local law enforcement agencies in enforcing this regulation.

This notice of enforcement is issued under authority of 33 CFR 165.506(d) and 5 U.S.C. 552 (a). In addition to this notice of enforcement in the Federal Register, the Coast Guard plans to provide notification of this enforcement period via the Local Notice to Mariners and marine information broadcasts.

Dated: August 17, 2016.
Richard J. Wester,
Captain, U.S. Coast Guard, Captain of the Port, Hampton Roads, VA.

[FR Doc. 2016-21476 Filed 9-6-16; 8:45 am]

BILLING CODE 9110-04-P